ENVIRONMENTAL PROTECTION AGENCY

[FRL-6930-3]

Availability of FY 99 Grant Performance Reports for States of Georgia and Mississippi, and the Commonwealth of Kentucky

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA recently performed end-of-year evaluations of three state air pollution control programs (States of Georgia and Mississippi, and the Commonwealth of Kentucky). The three evaluations were conducted to assess the agencies' performance under the grants awarded by EPA under authority of section 105 of the Clean Air Act. EPA Region 4 has prepared reports for each agency identified above and these reports are now available for public inspection.

ADDRESSES: The reports may be examined at the EPA's Region 4 office, 61 Forsyth Street, SW, Atlanta, Georgia 30303, in the Air, Pesticides, and Toxics Management Division.

FOR FURTHER INFORMATION CONTACT: Gloria Knight, (404) 562-9064, at the above Region 4 address, for information concerning the State of Mississippi, and Marie Persinger (404) 562-9048 for the State of Georgia and the Commonwealth of Kentucky.

Dated: December 22, 2000.
A. Stanley Meiburg,
Acting Regional Administrator, Region 4.

[FR Doc. 01-364 Filed 1-4-01; 8:45 am]

BILLING CODE 6560-50-P